DEPARTMENT OF TRANSPORTATION

Federal Aviation Administration

[Docket No. FAA-2026-0024]

Notice of Intent To Designate as Abandoned R.J. Schroers Supplemental Type Certificate Nos. SA91NW, SA152NW, and SA2472WE

AGENCY: Federal Aviation Administration (FAA), DOT.

ACTION: Notice of intent to designate supplemental type certificate as abandoned; request for comments.

SUMMARY: This notice announces the FAA's intent to designate R.J. Schroers Supplemental Type Certificate (STC) Nos. SA91NW, SA152NW, and SA2472WE as abandoned and make the related engineering data available upon request. The FAA has received a request to provide engineering data concerning these STCs. The FAA has been unsuccessful in contacting R.J. Schroers concerning the STCs. This action is intended to enhance aviation safety.

DATES: The FAA must receive all comments by July 27, 2026.

ADDRESSES: You may send comments on this notice by any of the following methods:

• Federal eRulemaking Portal: Go to regulations.gov. Follow the instructions for submitting comments.

• Mail: Ed Mills, AIR-771, FAA, West Certification Branch, 2200 216th Street, Des Moines, WA 98189.

• Email: Ed.Mills@faa.gov. Include “Docket No. FAA-2026-0024” in the subject line of the message.

• Hand Delivery: Deliver to Mail address above between 9 a.m. and 5 p.m., Monday through Friday, except Federal holidays.

FOR FURTHER INFORMATION CONTACT: Ed Mills, Program Manager, AIR-771, FAA; telephone: 206-231-3515; email: Ed.Mills@faa.gov.

SUPPLEMENTARY INFORMATION:

Comments Invited

The FAA invites interested parties to provide comments, written data, views, or arguments relating to this notice. Send your comments using a method listed under the ADDRESSES section. Include “Docket No. FAA-2026-0024” at the beginning of your comments. The FAA will consider all comments received on or before the closing date. All comments received will be available in the docket for examination by interested persons.

Background

The FAA is posting this notice to inform the public that the FAA intends to designate R.J. Schroers STC Nos. SA91NW, SA152NW, and SA2472WE as abandoned and subsequently release the related engineering data. STC No. SA91NW is for the installation of a strobe light flashtube system installation, on Univair Aircraft Corporation (Stinson) Model 108-3 airplanes. STC No. SA152NW is for the installation of a deck and glare shield (with and without instrument lights), on Textron Aviation Inc. (type certificate formerly held by Cessna Aircraft Company) Model 170, 170A, 170B, 172, 172A, 180, 180A, 180B, 180C, 180D, 180E, 180F, 180G, 182, 182A, 182B, 182C, 182D, 182E, 182F, 182G, 182H, 182J, 182K, 182L, 182M, 182N, 182P, 185, 185A, 185B, and 185C airplanes; Textron Aviation Inc. (type certificate formerly held by Beechcraft Corporation) Model 35, A35, B35, C35, D35, E35, F35, G35, 35R, 35-33, 35-A33, 35-B33, 35-C33, 35-C33A, E33, E33A, E33C, F33, F33A, F33C, G33, H35, J35, K35, M35, N35, P35, S35, V35, V35A, and V35B airplanes; and Mooney International Corporation (type certificate previously held by Mooney Aviation Company) Model M20, M20A, M20B, M20C, M20D, M20E, M20F, and M20G airplanes. STC No. SA2472WE is for the installation of a high intensity anti-collision light system, on Textron Aviation Inc. Model 170, 170A, and 170B airplanes.

The FAA has received a third-party request for the release of the engineering data for STC No. SA152NW under the provisions of the Freedom of Information Act (FOIA), 5 U.S.C. 552. The FAA cannot release commercial or financial information under FOIA without the permission of the data owner. However, in accordance with title 49 of the United States Code § 44704(a)(5), the FAA can provide STC “engineering data” it possesses for STC maintenance or improvement, upon request, if the following conditions are met:

1. The FAA determines the STC has been inactive for 3 years or more;

2. Using due diligence, the FAA is unable to locate the owner of record or the owner of record's heir; and

3. The availability of such data will enhance aviation safety.

There has been no activity on this STC for more than 3 years.

On July 18, 2025, the FAA sent a certified letter to R.J. Schroers at his last known address: 4479 139th Ave. SE, Bellevue, Washington 98006. The letter was returned, unclaimed, and unable to be forwarded. The letter informed R.J. Schroers that the FAA had received a request for engineering data related to STC No. SA152NW and was conducting a due diligence search to determine whether the STC was inactive and may be considered abandoned. The letter further requested that R.J. Schroers respond in writing within 60 days and state whether he is the holder of the STC. The FAA also attempted to make contact with R.J. Schroers by other means, including telephone communication, without success.

Information Requested

If you are the owner or heir or a transferee of STC No. SA91NW, SA152NW, or SA2472WE or have any knowledge regarding who may now hold STC No. SA91NW, SA152NW, or SA2472WE, please contact Ed Mills using a method described in this notice under FOR FURTHER INFORMATION CONTACT. If you are the heir of the owner, or the owner by transfer, of STC No. SA91NW, SA152NW, or SA2472WE, you must provide a notarized copy of your government-issued identification with a letter and background establishing your ownership of the STC and, if applicable, your relationship as the heir to the deceased holder of the STC.

Conclusion

If the FAA does not receive any response by July 27, 2026, the FAA will consider STC Nos. SA91NW, SA152NW, and SA2472WE abandoned, and the FAA will proceed with the release of the requested data. This action is for the purpose of maintaining the airworthiness of an aircraft and enhancing aviation safety.

Issued on January 22, 2026.
Steven W. Thompson,
Acting Deputy Director, Compliance & Airworthiness Division, Aircraft Certification Service.

[FR Doc. 2026-01446 Filed 1-23-26; 8:45 am]

BILLING CODE 4910-13-P